ENVIRONMENTAL PROTECTION AGENCY

[EPA-HQ-OEI-2013-0565; FRL-9904-58-OEI]

Agency Information Collection Activities; Submission to OMB for Review and Approval; Comment Request; Confidentiality Rules (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before February 24, 2014.

ADDRESSES: Submit your comments, referencing Docket ID No. EPA-HQ-OEI-2013-0565; to EPA online using www.regulations.gov (our preferred method), by email to docket.oei@epa.gov, or by mail to: EPA Docket Center, Environmental Protection Agency, Mail Code 28221T, 1200 Pennsylvania Ave. NW., Washington, DC 20460 and (2) OMB by mail to: Office of Management and Budget (OMB), Attention: Desk Officer for EPA, 725 17th Street NW., Washington, DC 20503.

FOR FURTHER INFORMATION CONTACT: Larry F. Gottesman, Agency Freedom of Information Act Officer, Collection Strategies Division, Office of Information Collection, (Mail Code 2822T), Environmental Protection Agency, 1200 Pennsylvania Ave. NW., Washington, DC 20460; telephone number: 202-566-2162; email address: gottesman.larry@epa.gov.

SUPPLEMENTARY INFORMATION: EPA has submitted the following ICR to OMB for review and approval according to the procedures prescribed in 5 CFR 1320.12. On September 6, 2013 (75 FR 59708), EPA sought comments on this ICR pursuant to 5 CFR 1320.8(d). EPA received no comments. Any comments on this ICR should be submitted to EPA and OMB within 30 days of this notice.

EPA has established a public docket for this ICR under Docket ID. No. EPA-HQ-OEI-2013-0565, which is available for online viewing at http://www.regulations.gov, or in person viewing at the Office of Environmental Information Docket in the EPA Docket Center (EPA/DC), EPA WJC West, Room 3334, 1301 Constitution Avenue NW., Washington, DC. The EPA/DC Public Reading Room is open from 8 a.m. to 4:30 p.m., Monday through Friday, excluding legal holidays. The telephone number for the Reading Room is 202-566-1744 and the telephone number for the Office of Environmental Information Docket is 202-566-0219.

Use EPA's electronic docket and comment system at http://www.regulations.gov to submit or view public comments, access the index listing of the contents of the docket and to access documents in the docket that are available electronically. Once in the system, select “docket search”, then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Confidentiality Rules (Renewal).

ICR numbers: EPA ICR No. 1665.12; OMB Control No. 2020-0003.

ICR Status: This ICR is scheduled to expire on January 31, 2014. Under OMB regulations, the Agency may continue to conduct or sponsor the collection of information while this submission is pending at OMB. An Agency may not conduct or sponsor and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable.

Abstract: In the course of administering environmental protection statutes, EPA collects data from “businesses” in many sectors of the U.S. economy. In many cases, “businesses” mark the data it submits to EPA as confidential business information (CBI). In addition, businesses submit information to EPA without the Agency requesting the information. EPA established the procedures described in 40 CFR part 2, subparts A and B, to protect the confidentiality of information as well as the rights of the public to obtain access to information under the Freedom of Information Act (FOIA). In accordance with these regulations, when EPA finds it necessary to make a final confidentiality determination (e.g., in response to a FOIA request or in the course of rulemaking or litigation, a resubstantiation of a prior claim, or an advance confidentiality determination), it shall notify the affected business and provide an opportunity to submit a substantiation of confidentiality claims. This ICR relates to information EPA needs to collect to assist in determining whether previously submitted information is entitled to confidential treatment.

Form Numbers: None.

Respondents/affected entities: Entities potentially affected by this action are businesses and other for-profit companies.

Respondent's obligation to respond: Required to obtain or retain a benefit, 5 U.S.C. Section 522 Freedom of Information Action.

Estimated number of respondents: 228.

Frequency of response: 1 per year.

Total estimated burden: 1533 hours. Burden is defined at 5 CFR 1320.3(b).

Total estimated cost: $139,514 includes $0 annualized capital or operation & maintenance costs.

Changes in Estimates: EPA as part of the ICR renewal process obtained usage of each of the letters for the past 12 months that comprise this ICR to obtain up-to-date estimates. EPA found that both usage and response rates decreased.

John Moses,
Director, Collection Strategies Division.

[FR Doc. 2013-30608 Filed 12-23-13; 8:45 am]

BILLING CODE 6560-50-P